Proclamation 9751 of May 18, 2018

Emergency Medical Services Week, 2018

By the President of the United States of America

A Proclamation

During Emergency Medical Services Week, we recognize the outstanding contributions and lifesaving actions of our Nation's Emergency Medical Services (EMS) providers. With their unwavering courage, acute skill, and tireless efforts, career and volunteer first responders serve our communities throughout all hours of the day and night, providing emergency medical treatment in times of dire need. We also honor the memory and inspiring legacy of the EMS providers who have lost their lives as they helped save others.

Last year, as historic wildfires and devastating hurricanes swept through the country, EMS providers repeatedly came to the aid of their fellow Americans. They spent days on duty without pause, moving thousands of homebound residents out of harm's way, rescuing people from fires and floods, and providing medical care to individuals in shelters. Citizens from all backgrounds bravely volunteered to assist these first responders, reminding us that no challenge is too great for the American people.

On the front lines of the opioid crisis, EMS providers routinely face situations of tremendous danger. Recently, the Office of National Drug Control Policy issued guidance on how EMS personnel and other first responders can balance safety with mobility and efficiency when responding to scenes where the presence of heroin, fentanyl, or other highly toxic drugs is suspected. My Administration is committed to working with State and local partners to ensure first responders are adequately trained and equipped to respond to every crisis, safely and effectively.

This year marks the conclusion of EMS Agenda 2050—a collaborative effort led by the EMS community with support from the Department of Health and Human Services, the National Highway Traffic Safety Administration, and the Department of Homeland Security. EMS Agenda 2050 will set forth a strategic vision for the future of EMS in America. We welcome this effort to empower EMS professionals to play a central role in the well-being of our communities through data-driven, evidence-based, innovative, and safe approaches to prevention, response, and clinical care.

This week, and throughout the year, we extend our sincere respect and gratitude to all EMS providers throughout our Nation. Despite danger, chaos, and daunting obstacles, they consistently protect the safety and health of others. For this, our country is deeply grateful.

NOW, THEREFORE, I, DONALD J. TRUMP, President of the United States of America, by virtue of the authority vested in me by the Constitution and the laws of the United States, do hereby proclaim May 20 through May 26, 2018, as Emergency Medical Services Week. I encourage all Americans to observe this occasion by showing their support for local EMS professionals through appropriate programs, ceremonies, and activities.

IN WITNESS WHEREOF, I have hereunto set my hand this eighteenth day of May, in the year of our Lord two thousand eighteen, and of the Independence of the United States of America the two hundred and forty-second.

[FR Doc. 2018-11369

Filed 5-23-18; 11:15 am]

Billing code 3295-F8-P